DEPARTMENT OF ENERGY

Federal Energy Regulatory Commission

Sunshine Act Meeting

Federal Register Citation of Previous Announcement: June 10, 2002; 67 FR 39710.

Previously Announced Time and Date of Meeting: June 12, 2002; 10 a.m.

Change in the Meeting: The following Docket Nos. and Companies have been added as Item A-3 to the Commission meeting agenda of June 12, 2002.

Item No. | Docket No. and Company
A-3 | RM01-12-000, Electricity Market Design and Structure.
| RT01-99-000, 001, 002 and 003, Regional Transmission Organizations.
| RT01-86-000, 001 and 002, Bangor Hydro-Electric Company, Central Maine Power Company, National Grid USA, Northeast Utilities Service Company, The United Illuminating Company and Vermont Electric Power Company and ISO New England Inc.
| RT01-95-000, 001 and 002, New York Independent System Operator, Inc., Central Hudson Gas & Electric Corporation, Consolidated Edison Company of New York, Inc., Niagara Mohawk Power Corporation, New York State Electric & Gas Corporation, Orange & Rockland Utilities, Inc. and Rochester Gas and Electric Corporation.
| RT01-2-000, 001, 002 and 003, PJM Interconnection, L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities, Inc.
| RT01-98-000, PJM Interconnection, L.L.C.
| RT01-87-000, Midwest Independent System Operator.
| EL02-65-000, Alliance Companies, Ameren Services Company (on behalf of: Union Electric Company and Central Illinois Public Service Company), American Electric Power Service Corporation (on behalf of: Appalachian Power Company, Columbus Southern Power Company, Indiana Michigan Power Company, Kentucky Power Company, Kingsport Power Company, Ohio Power Company and Wheeling Power Company), The Dayton Power and Light Company, Exelon Corporation (on behalf of: Commonwealth Edison Company and Commonwealth Edison Company of Indiana, Inc.) FirstEnergy Corp. (on behalf of: American Transmission Systems, Inc., The Cleveland Electric Illuminating Company, Ohio Edison Company, Pennsylvania Power Company and The Toledo Edison Company), Illinois Power Company and Northern Indiana Public Service Company.

Magalie R. Salas,
Secretary.

[FR Doc. 02-15274 Filed 6-13-02; 10:58 am]

BILLING CODE 6717-01-P